DEPARTMENT OF COMMERCE

National Oceanic and Atmospheric Administration

RIN 0648-XE664

Marine Mammals; File No. 20481

AGENCY: National Marine Fisheries Service (NMFS), National Oceanic and Atmospheric Administration (NOAA), Commerce.

ACTION: Notice; receipt of application.

SUMMARY: Notice is hereby given that the BBC Natural History Unit, 23 Whiteladies Road, Bristol BS8 2LR, United Kingdom, has applied in due form for a permit to conduct commercial and educational photography of California sea lions (Zalophus californianus).

DATES: Written, telefaxed, or email comments must be received on or before August 24, 2016.

ADDRESSES: These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include File No. 20481 in the subject line of the email comment.

Those individuals requesting a public hearing should submit a written request to the Chief, Permits and Conservation Division at the address listed above. The request should set forth the specific reasons why a hearing on this application would be appropriate.

FOR FURTHER INFORMATION CONTACT: Rosa González or Jennifer Skidmore, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to film California sea lions (Zalophus californianus) for a documentary film on animal behavior [i.e., OCEAN (BLUE PLANET II)]. Filming activities would occur along the California coast and offshore from Point Año Nuevo south to the Channel Islands, focusing on the Monterey Bay region. Up to 1,000 California sea lions would be approached for filming from land, vessel, and underwater (snorkelers or scuba divers). In addition, up to 1,000 long-beaked common dolphins (Delphinus capensis) and 1,000 short-beaked common dolphins (D. delphis) may be incidentally harassed and filmed during operations. Filming would occur August 2016 through March 2017, although the key filming period is expected to be mid-August to early/mid-September. The permit is requested for a one year period.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 19, 2016.
Donna S. Wieting,
Director, Office of Protected Resources, National Marine Fisheries Service.

[FR Doc. 2016-17402 Filed 7-22-16; 8:45 am]

BILLING CODE 3510-22-P